DEPARTMENT OF HOMELAND SECURITY

Federal Emergency Management Agency

[Docket ID FEMA-2012-0003: Internal Agency Docket No. FEMA-B-1279]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Alabama: Morgan | City of Decatur (12-04-5276P) | The Honorable Don Stanford, Mayor, City of Decatur, P.O. Box 488, Decatur, AL 35602 | City Hall, 402 Lee Street Northeast, Decatur, AL 35601 | http://www.bakeraecom.com/index.php/alabama/morgan-2/ | January 7, 2013 | 010176
Arizona: Maricopa | Unincorporated areas of Maricopa County (12-09-0756P) | The Honorable Max W. Wilson, Chairman, Maricopa County Board of Supervisors, 301 West Jefferson Street, 10th Floor, Phoenix, AZ 85009 | 2801 West Durango Street, Phoenix, AZ 85009 | http://www.r9map.org/Docs/12-09-0756P-040037-102IAC.pdf | August 17, 2012 | 040037
California:
Riverside | Unincorporated areas of Riverside County (12-09-0462P) | The Honorable John F. Tavaglione, Chairman, Riverside County Board of Supervisors, 4080 Lemon Street, Riverside, CA 92501 | Riverside County Flood Control and Water Conservation District, 1995 Market Street, Riverside, CA 92501 | http://www.r9map.org/Docs/12-09-0462P-060245-102IAC.pdf | September 17, 2012 | 060245
San Bernardino | City of Ontario (12-09-2406P) | The Honorable Paul S. Leon, Mayor, City of Ontario, 303 East B Street, Ontario, CA 91764 | City Hall, Engineering Department Public Counter, 303 East B Street, Ontario, CA 91764 | http://www.r9map.org/Docs/12-09-2406P-060278-102IAC.pdf | January 4, 2013 | 060278
San Diego | City of Coronado (12-09-2589P) | The Honorable Casey Tanaka, Mayor, City of Coronado, 1825 Strand Way, Coronado, CA 92118 | City Hall, 1825 Strand Way, Coronado, CA 92118 | http://www.r9map.org/Docs/12-09-2589P-060287-102IAC.pdf | January 17, 2013 | 060287
San Diego | City of San Diego (12-09-0966P) | The Honorable Jerry Sanders, Mayor, City of San Diego, 202 C Street, San Diego, CA 92101 | 202 C Street, San Diego, CA 92101 | http://www.r9map.org/Docs/12-09-0966P-060295-102IAC.pdf | October 9, 2012 | 060295
San Diego | City of San Marcos (12-09-1988P) | The Honorable Jim Desmond, Mayor, City of San Marcos, 1 Civic Center Drive, San Marcos, CA 92069 | City Hall, 1 Civic Center Drive, San Marcos, CA 92069 | http://www.r9map.org/Docs/12-09-1988P-060296-102IAC.pdf | January 25, 2013 | 060296
San Diego | Unincorporated areas of San Diego County (12-09-0044P) | The Honorable Ron Roberts, Chairman, San Diego County Board of Supervisors, 1600 Pacific Highway, San Diego, CA 92101 | 5555 Overland Avenue, San Diego, CA 92101 | http://www.r9map.org/Docs/12-09-0044P-060284-102AC.pdf | August 28, 2012 | 060284
Solano | Unincorporated areas of Solano County (12-09-1553P) | The Honorable Linda J. Seifert, Chair, Solano County Board of Supervisors, 675 Texas Street, Suite 6500, Fairfield, CA 94533 | Solano County Public Works Department, 675 Texas Street, Suite 5500, Fairfield, CA 94533 | http://www.r9map.org/Docs/12-09-1553P-060631-102IAC.pdf | January 21, 2013 | 060631
Colorado:
Douglas | Unincorporated areas of Douglas County (12-08-0727P) | The Honorable Jack Hilbert, Chairman, Douglas County Board of Commissioners, 100 3rd Street, Castle Rock, CO 80104 | Douglas County Department of Public Works, Engineering Division, 100 3rd Street, Castle Rock, CO 80104 | http://www.bakeraecom.com/index.php/colorado/douglas-2/ | January 11, 2013 | 080049
Jefferson | City of Golden (12-08-0103P) | The Honorable Marjorie Sloan, Mayor, City of Golden, 911 10th Street, Golden, CO 80401 | Public Works and Planning Department, 1445 10th Street, Golden, CO 80401 | http://www.bakeraecom.com/index.php/colorado/jefferson-5/ | January 18, 2013 | 080090
Jefferson | Unincorporated areas of Jefferson County (12-08-0572P) | The Honorable Donald Rosier, Chairman, Jefferson County Board of Commissioners, 100 Jefferson County Parkway, Golden, CO 80419 | Jefferson County Department of Planning and Zoning, 100 Jefferson County Parkway, Suite 3, Golden, CO 80419 | http://www.bakeraecom.com/index.php/colorado/jefferson-5/ | January 18, 2013 | 080087
New Haven | Town of Guilford (12-01-0839P) | The Honorable Joseph S. Mazza, First Selectman, Town of Guilford Board of Selectmen, 31 Park Street, Guilford, CT 06437 | 50 Boston Street, Guilford, CT 06437 | http://www.starr-team.com/starr/LOMR/Pages/RegionI.aspx | July 27, 2012 | 090077
Florida:
Lee | City of Fort Myers (12-04-3735P) | The Honorable Randy Henderson, Jr., Mayor, City of Fort Myers, 2200 2nd Street, Fort Myers, FL 33901 | Community Development Department, 1825 Hendry Street, Fort Myers, FL 33901 | http://www.bakeraecom.com/index.php/florida/lee-5/ | January 18, 2013 | 125106
Lee | Unincorporated areas of Lee County (12-04-3735P) | The Honorable John E. Manning, Chairman, Lee County Board of Commissioners, P.O. Box 398, Fort Myers, FL 33902 | Lee County Community Development Department, 1500 Monroe Street, 2nd Floor, Fort Myers, FL 33901 | http://www.bakeraecom.com/index.php/florida/lee-5/ | January 18, 2013 | 125124
Orange | City of Orlando (12-04-6040P) | The Honorable Buddy Dyer, Mayor, City of Orlando, P.O. Box 4990, Orlando, FL 32808 | Permitting Services, 400 South Orange Avenue, Orlando, FL 32301 | http://www.bakeraecom.com/index.php/florida/orange-2/ | January 25, 2013 | 120186
Orange | Unincorporated areas of Orange County (12-04-6040P) | The Honorable Teresa Jacobs, Mayor, Orange County, 201 South Rosalind Avenue, 5th Floor, Orlando, FL 32801 | Orange County Stormwater Management Department, 4200 South John Young Parkway, Orlando, FL 32839 | http://www.bakeraecom.com/index.php/florida/orange-2/ | January 25, 2013 | 120179
Georgia: Columbia | Unincorporated areas of Columbia County (12-04-4789P) | The Honorable Ron C. Cross, Chairman, Columbia County Board of Commissioners, P.O. Box 498, Evans, GA 30809 | Columbia County Development Services Division, 630 Ronald Reagan Drive, Evans, GA 30809 | http://www.bakeraecom.com/index.php/georgia/columbia-2/ | January 17, 2013 | 130059
Indiana:
Floyd | City of New Albany (12-05-0562P) | The Honorable Jeff M. Gahan, Mayor, City of New Albany, 311 Hauss Square, Suite 316, New Albany, IN 47150 | 311 Hauss Square, New Albany, IN 47150 | http://www.starr-team.com/starr/LOMR/Pages/RegionV.aspx | September 12, 2012 | 180062
Hendricks | Unincorporated areas of Hendricks County (12-05-0826P) | The Honorable Eric L. Wathen, President, Hendricks County Board of Commissioners, 355 South Washington Street, Danville, IN 46122 | 355 South Washington Street, Danville, IN 46122 | http://www.starr-team.com/starr/LOMR/Pages/RegionV.aspx | August 30, 2012 | 180415
Iowa: Black Hawk | City of Cedar Falls (12-07-1218P) | The Honorable Jon Crews, Mayor, City of Cedar Falls, 220 Clay Street, Cedar Falls, IA 50613 | 220 Clay Street, Cedar Falls, IA 50613 | http://www.starr-team.com/starr/LOMR/Pages/RegionVII.aspx | April 12, 2012 | 190017
Maine:
Cumberland | City of Portland (12-01-0271P) | The Honorable Michael Brennan, Mayor, City of Portland, 389 Congress Street, Portland, ME 04101 | 389 Congress Street, Portland, ME 04101 | http://www.starr-team.com/starr/LOMR/Pages/RegionI.aspx | September 14, 2012 | 230051
York | Town of Kittery (12-01-1257P) | The Honorable Judith Spiller, Chair, Kittery Town Council, 200 Rogers Road, Kittery, ME 03904 | 200 Rogers Road, Kittery, ME 03904 | http://www.starr-team.com/starr/LOMR/Pages/RegionI.aspx | November 23, 2012 | 230171
Michigan:
Ingham | Charter Township of Meridian (12-05-0834P) | The Honorable Susan McGillicuddy, Supervisor, Meridian Township Board, 5151 Marsh Road, Okemos, MI 48864 | 5151 Marsh Road, Okemos, MI 48864 | http://www.starr-team.com/starr/LOMR/Pages/RegionV.aspx | October 22, 2012 | 260093
Macomb | Charter Township of Clinton (12-05-2784P) | The Honorable Robert J. Cannon, Supervisor, Clinton Township Board of Trustees, 40700 Romeo Plank Road, Clinton Township, MI 48038 | 40700 Romeo Plank Road, Clinton Township, MI 48038 | http://www.starr-team.com/starr/LOMR/Pages/RegionV.aspx | October 26, 2012 | 260121
Oakland | City of Troy (12-05-7920P) | The Honorable Janice Daniels, Mayor, City of Troy, 500 West Big Beaver Road, Troy, MI 48084 | 500 West Big Beaver Road, Troy, MI 48084 | http://www.starr-team.com/starr/LOMR/Pages/RegionV.aspx | December 28, 2012 | 260180
Minnesota: Rice | City of Northfield (12-05-1809P) | The Honorable Mary Rossing, Mayor, City of Northfield, 801 Washington Street, Northfield, MN 55057 | 801 Washington Street, Northfield, MN 55057 | http://www.starr-team.com/starr/LOMR/Pages/RegionV.aspx | October 2, 2012 | 270406
Missouri:
Boone | Unincorporated areas of Boone County (12-07-0634P) | The Honorable Dan Atwill, Presiding Commissioner, Boone County Board of Commissioners, 801 East Walnut, Room 333, Columbia, MO 65201 | 801 East Walnut, Columbia, MO 65201 | http://www.starr-team.com/starr/LOMR/Pages/RegionVII.aspx | August 31, 2012 | 290034
Greene | City of Springfield (12-07-2301P) | The Honorable Bob Stephens, Mayor, City of Springfield, 840 Boonville Avenue, Springfield, MO 65801 | 840 Boonville Avenue, Springfield, MO 65801 | http://www.starr-team.com/starr/LOMR/Pages/RegionVII.aspx | December 27, 2012 | 290149
St. Charles | City of O'Fallon (12-07-0766P) | The Honorable Bill Hennessy, Mayor, City of O'Fallon, 100 North Main Street, O'Fallon, MO 63366 | 100 North Main Street, O'Fallon, MO 63366 | http://www.starr-team.com/starr/LOMR/Pages/RegionVII.aspx | December 20, 2012 | 290316
St. Charles | Unincorporated areas of St. Charles County (12-07-0766P) | The Honorable Nancy Matheny, Chair, St. Charles County Counsel, 100 North 3rd Street, Suite 124, St. Charles, MO 63301 | 300 North 2nd Street, St. Charles, MO 63301 | http://www.starr-team.com/starr/LOMR/Pages/RegionVII.aspx | December 20, 2012 | 290315
Nebraska:
Dakota | Village of Homer (12-07-1010P) | The Honorable Corbet Dorsey, Chairman, Homer Village Board, 110 John Street, Homer, NE 68030 | 110 John Street, Homer, NE 68030 | http://www.starr-team.com/starr/LOMR/Pages/RegionVII.aspx | September 21, 2012 | 310241
Lancaster | City of Lincoln (12-07-2343P) | The Honorable Chris Beutler, Mayor, City of Lincoln, 555 South 10th Street, Suite 301, Lincoln, NE 68508 | 555 South 10th Street, Suite 301, Lincoln, NE 68508 | http://www.starr-team.com/starr/LOMR/Pages/RegionVII.aspx | December 7, 2012 | 315273
New Hampshire:
Belknap | Town of Belmont (12-01-0021P) | The Honorable Jon Pike, Chairman, Board of Selectmen, 143 Main Street, Belmont, NH 03220 | 143 Main Street, Belmont, NH 03220 | http://www.starr-team.com/starr/LOMR/Pages/RegionI.aspx | August 17, 2012 | 330002
Hillsborough | City of Nashua (12-01-0285P) | The Honorable Donnalee Lozeau, Mayor, City of Nashua, 229 Main Street, Nashua, NH 03061 | 229 Main Street, Nashua, NH 03061 | http://www.starr-team.com/starr/LOMR/Pages/RegionI.aspx | November 27, 2012 | 330097
New York: Westchester | Village of Mamaroneck (12-02-1302P) | The Honorable Norman S. Rosenblum, Mayor, Village of Mamaroneck, 123 Mamaroneck Avenue, Mamaroneck, NY 10543 | Building Department, 169 Mount Pleasant Avenue, 3rd Floor, Mamaroneck, NY 10543 | http://www.rampp-team.com/lomrs.htm | February 20, 2013 | 360916
North Dakota: Stark | City of Dickinson (12-08-0288P) | The Honorable Dennis W. Johnson, Mayor, City of Dickinson, 99 2nd Street East, Dickinson, ND 58601 | Building Department, 99 2nd Street East, Dickinson, ND 58601 | http://www.bakeraecom.com/index.php/north-dakota/stark/ | January 7, 2013 | 380117
Ohio:
Athens | City of Athens (12-05-4250P) | The Honorable Paul Wiehl, Mayor, City of Athens, 8 East Washington Street, Athens, OH 45701 | 28 Curran Drive, Athens, OH 45701 | http://www.starr-team.com/starr/LOMR/Pages/RegionV.aspx | December 21, 2012 | 390016
Athens | Unincorporated areas of Athens County (12-05-4250P) | The Honorable Lenny Eliason, Chair, Athens County Board of Commissioners, 15 South Court Street, Room 234, Athens, OH 45701 | 69 South Plains Road, The Plains, OH 45780 | http://www.starr-team.com/starr/LOMR/Pages/RegionV.aspx | December 21, 2012 | 390760
Cuyahoga | City of Strongsville (12-05-0377P) | The Honorable Thomas P. Perciak, Mayor, City of Strongsville, 16099 Foltz Industrial Parkway, Strongsville, OH 44149 | 16099 Foltz Industrial Parkway, Strongsville, OH 44149 | http://www.starr-team.com/starr/LOMR/Pages/RegionV.aspx | December 7, 2012 | 390132
Franklin | City of Columbus (11-05-7877P) | The Honorable Michael B. Coleman, Mayor, City of Columbus, 90 West Broad Street, 2nd Floor, Columbus, OH 43215 | 90 West Broad Street, Columbus, OH 43215 | http://www.starr-team.com/starr/LOMR/Pages/RegionV.aspx | August 30, 2012 | 390170
Franklin | Unincorporated areas of Franklin County (11-05-7877P) | The Honorable Marilyn Brown, President, Franklin County Board of Commissioners, 373 South High Street, 26th Floor, Columbus, OH 43215 | 280 East Broad Street, Columbus, OH 43215 | http://www.starr-team.com/starr/LOMR/Pages/RegionV.aspx | August 30, 2012 | 390167
Lucas | City of Toledo (12-05-6346P) | The Honorable Michael P. Bell, Mayor, City of Toledo, 640 Jackson Street, Suite 2200, Toledo, OH 43604 | 6200 Bay Shore Road, Suite 300, Toledo, OH 43616 | http://www.starr-team.com/starr/LOMR/Pages/RegionV.aspx | December 28, 2012 | 395373
Montgomery | City of Englewood (12-05-5251P) | The Honorable Patricia Burnside, Mayor, City of Englewood, 333 West National Road, Englewood, OH 45322 | 333 West National Road, Englewood, OH 45322 | http://www.starr-team.com/starr/LOMR/Pages/RegionV.aspx | December 14, 2012 | 390828
Warren | City of Franklin (12-05-0770P) | The Honorable Scott Lipps, Mayor, City of Franklin, 1 Benjamin Franklin Way, Franklin, OH 45005 | 1 Benjamin Franklin Way, Franklin, OH 45005 | http://www.starr-team.com/starr/LOMR/Pages/RegionV.aspx | September 28, 2012 | 390556
Oregon:
Clackamas | City of Lake Oswego (12-10-0728P) | The Honorable Jack Hoffman, Mayor, City of Lake Oswego, 380 A Avenue, Lake Oswego, OR 97034 | 380 A Avenue, Lake Oswego, OR 97034 | http://www.starr-team.com/starr/LOMR/Pages/RegionX.aspx | August 24, 2012 | 410018
Jackson | Unincorporated areas of Jackson County (11-10-1783P) | The Honorable Don Skundrick, Chair, Jackson County Board of Commissioners, 10 South Oakdale Avenue, Room 100, Medford, OR 97501 | 10 South Oakdale Avenue, Room 100, Medford, OR 97501 | http://www.starr-team.com/starr/LOMR/Pages/RegionX.aspx | December 6, 2012 | 415589
Josephine | Unincorporated areas of Josephine County (11-10-1783P) | The Honorable Simon G. Hare, Chair, Josephine County Board of Commissioners, 500 Northwest 6th Street, Grant Pass, OR 97526 | 510 Northwest 4th Street, Grants Pass, OR 97526 | http://www.starr-team.com/starr/LOMR/Pages/RegionX.aspx | December 6, 2012 | 415590
Linn | City of Sweet Home (12-10-0280P) | The Honorable Craig Fentiman, Mayor, City of Sweet Home, 1140 12th Avenue, Sweet Home, OR 97386 | 1140 12th Avenue, Sweet Home, OR 97386 | http://www.starr-team.com/starr/LOMR/Pages/RegionX.aspx | December 27, 2012 | 410146
Marion | City of Salem (11-10-1646P) | The Honorable Anna M. Peterson, Mayor, City of Salem, 555 Liberty Street Southeast, Room 220, Salem, OR 97301 | 555 Liberty Street Southeast, Salem, OR 97301 | http://www.starr-team.com/starr/LOMR/Pages/RegionX.aspx | August 31, 2012 | 410167
Marion | Unincorporated areas of Marion County (12-10-0559P) | The Honorable Patti Milne, Chair, Marion County Board of Commissioners, 100 High Street Northeast, Salem, OR 97301 | 3150 Lancaster Drive Northeast, Salem, OR 97305 | http://www.starr-team.com/starr/LOMR/Pages/RegionX.aspx | September 21, 2012 | 410154
Multnomah | City of Fairview (11-10-1884P) | The Honorable Mike Weatherby, Mayor, City of Fairview, 1300 Northeast Village Street, Fairview, OR 97024 | 1300 Northeast Village Street, Fairview, OR 97024 | http://www.starr-team.com/starr/LOMR/Pages/RegionX.aspx | July 27, 2012 | 410180
Multnomah | City of Troutdale (11-10-1884P) | The Honorable James Knight, Mayor, City of Troutdale, 104 Southeast Kibling, Troutdale, OR 97060 | 19 East Historic Columbia River Highway, Troutdale, OR 97060 | http://www.starr-team.com/starr/LOMR/Pages/RegionX.aspx | July 27, 2012 | 410184
Multnomah | City of Wood Village (11-10-1884P) | The Honorable Patricia Smith, Mayor, City of Fairview, 2055 Northeast 238th Drive, Wood Village, OR 97060 | 2055 Northeast 238th Drive, Wood Village, OR 97060 | http://www.starr-team.com/starr/LOMR/Pages/RegionX.aspx | July 27, 2012 | 410185
South Carolina:
Richland | Unincorporated areas of Richland County (12-04-1256P) | The Honorable Kelvin Washington, Chairman, Richland County Council, 2020 Hampton Street, Columbia, SC 29204 | Richland County Administration Building, 2020 Hampton Street, 1st Floor, Columbia, SC 29204 | http://www.bakeraecom.com/index.php/southcarolina/richland/ | December 31, 2012 | 450170
Tennessee:
Hamilton | City of Collegedale (11-04-7989P) | The Honorable John Turner, Mayor, City of Collegedale, P.O. Box 1880, Collegedale, TN 37315 | City Hall, 4910 Swinyar Drive, Collegedale, TN 37315 | http://www.bakeraecom.com/index.php/tennessee/hamilton/ | January 15, 2013 | 475422
Hamilton | Unincorporated areas of Hamilton County (11-04-7989P) | The Honorable Jim Coppinger, Mayor, Hamilton County, 625 Georgia Avenue, Chattanooga, TN 37402 | Hamilton County Regional Planning Department, 1250 Market Street, Chattanooga, TN 37402 | http://www.bakeraecom.com/index.php/tennessee/hamilton/ | January 15, 2013 | 470071
Texas:
Bexar | City of San Antonio (12-06-0109P) | The Honorable Julian Castro, Mayor, City of San Antonio, 100 Military Plaza, San Antonio, TX 78205 | Municipal Plaza, 114 West Commerce Street, 7th Floor, San Antonio, TX 78205 | http://www.rampp-team.com/lomrs.htm | January 22, 2013 | 480045
Bexar | Unincorporated areas of Bexar County (12-06-0109P) | The Honorable Nelson W. Wolff, Bexar County Judge, Paul Elizondo Tower, 101 West Nueva Street, 10th Floor, San Antonio, TX 78205 | Public Works Department, 233 North Pecos—La Trinidad, Suite 420, San Antonio, TX 78207 | http://www.rampp-team.com/lomrs.htm | January 22, 2013 | 480035
Ellis | City of Midlothian (12-06-0065P) | The Honorable Bill Houston, Mayor, City of Midlothian, 104 West Avenue East, Midlothian, TX 76065 | 104 West Avenue East, Midlothian, TX 76065 | http://www.rampp-team.com/lomrs.htm | October 11, 2012 | 480801
Harris | City of Baytown (11-06-4571P) | The Honorable Stephen H. DonCarlos, Mayor, City of Baytown, 2401 Market Street, Baytown, TX 77522 | City Hall, 2401 Market Street, Baytown, TX 75522 | http://www.rampp-team.com/lomrs.htm | January 22, 2013 | 485456
Harris | Unincorporated areas of Harris County (11-06-4571P) | The Honorable Ed Emmett, Harris County Judge, 1001 Preston Street, Suite 911, Houston, TX 77002 | 10555 Northwest Freeway, Suite 120, Houston, TX 77092 | http://www.rampp-team.com/lomrs.htm | January 22, 2013 | 480287
Harris | Unincorporated areas of Harris County (12-06-2710P) | The Honorable Ed Emmett, Harris County Judge, 1001 Preston Street, Suite 911, Houston, TX 77002 | 10555 Northwest Freeway, Suite 120, Houston, TX 77092 | http://www.rampp-team.com/lomrs.htm | January 22, 2013 | 480287
Lubbock | City of Lubbock (12-06-1157P) | The Honorable Glen Robertson, Mayor, City of Lubbock, P.O. Box 2000, Lubbock, TX 79457 | City Hall, 1625 13th Street, Lubbock, TX 79408 | http://www.rampp-team.com/lomrs.htm | January 22, 2013 | 480452
Rockwall | City of Rockwall (12-06-2575P) | The Honorable David Sweet, Mayor, City of Rockwall, 385 South Goliad Street, Rockwall, TX 75087 | City Hall, 205 West Rusk Street, Rockwall, TX 75087 | http://www.rampp-team.com/lomrs.htm | January 18, 2013 | 480547
Washington:
King | Unincorporated areas of King County (11-10-1517P) | The Honorable Dow Constantine, King County Executive, 401 5th Avenue, Suite 800, Seattle, WA 98104 | 201 South Jackson Street, Suite 600, Seattle, WA 98055 | http://www.starr-team.com/starr/LOMR/Pages/RegionX.aspx | August 17, 2012 | 530071
Spokane | Unincorporated areas of Spokane County (12-10-0760P) | The Honorable Todd Mielke, Chair, Spokane County Board of Commissioners, 1116 West Broadway Avenue, Spokane, WA 99260 | 1026 West Broadway Avenue, Spokane, WA 99260 | http://www.starr-team.com/starr/LOMR/Pages/RegionX.aspx | November 21, 2012 | 530174
Wisconsin:
Dodge | City of Beaver Dam (11-05-9168P) | The Honorable Tom Kennedy, Mayor, City of Beaver Dam, 205 South Lincoln Avenue, Beaver Dam, WI 53916 | 205 South Lincoln Avenue, Beaver Dam, WI 53916 | http://www.starr-team.com/starr/LOMR/Pages/RegionV.aspx | September 14, 2012 | 550095
Green | Unincorporated areas of Green County (12-05-1770P) | The Honorable Arthur Carter, Chair, Green County Board of Supervisors, 1016 16th Avenue, Monroe, WI 53566 | 1016 16th Avenue, Monroe, WI 53566 | http://www.starr-team.com/starr/LOMR/Pages/RegionV.aspx | September 13, 2012 | 550157
Outagamie | Unincorporated areas of Outagamie County (12-05-1117P) | The Honorable Thomas Nelson, Outagamie County Executive, 410 South Walnut Street, Appleton, WI 54911 | 410 South Walnut Street, Appleton, WI 54911 | http://www.starr-team.com/starr/LOMR/Pages/RegionV.aspx | December 28, 2012 | 550302
Rock | City of Janesville (12-05-4053P) | The Honorable Eric Levitt, Manager, City of Janesville, 18 North Jackson Street, 3rd Floor, Janesville, WI 53547 | 18 North Jackson Street, Janesville, WI 53547 | http://www.starr-team.com/starr/LOMR/Pages/RegionV.aspx | November 21, 2012 | 555560
Richland | City of Richland (11-05-7586P) | The Honorable Larry Fowler, Mayor, City of Richland Center, 450 South Main Street, Richland Center, WI 53581 | 450 South Main Street, Richland Center, WI 53581 | http://www.starr-team.com/starr/LOMR/Pages/RegionV.aspx | August 24, 2012 | 555576
Richland | Unincorporated areas of Richland County (11-05-7586P) | The Honorable Ann M. Greenheck, Chair, Richland County Board of Supervisors, 31709 State Highway 130, Lone Rock, WI 53556 | 181 West Seminary Street, Room 309, Richland Center, WI 53581 | http://www.starr-team.com/starr/LOMR/Pages/RegionV.aspx | August 24, 2012 | 550356
Sheboygan | Unincorporated areas of Sheboygan County (12-05-4154P) | The Honorable Roger L. TeStroete, Chairman, Sheboygan County Board, 508 New York Avenue, Sheboygan, WI 53081 | 508 New York Avenue, Room 335, Sheboygan, WI 53081 | http://www.starr-team.com/starr/LOMR/Pages/RegionV.aspx | December 21, 2012 | 550424
Sheboygan | Village of Glenbeulah (12-05-4154P) | The Honorable Douglas Daun, President, Glenbeulah Village Board, 110 North Swift Street, Glenbeulah, WI 53023 | 110 North Swift Street, Glenbeulah, WI 53023 | http://www.starr-team.com/starr/LOMR/Pages/RegionV.aspx | December 21, 2012 | 550570
Waukesha | Unincorporated areas of Waukesha County (12-05-1322P) | The Honorable Don Vrakas, Waukesha County Executive, 515 West Moreland Boulevard, Room 320, Waukesha, WI 53188 | 1320 Pewaukee Road, Room 230, Waukesha, WI 53188 | http://www.starr-team.com/starr/LOMR/Pages/RegionV.aspx | November 16, 2012 | 550476

(Catalog of Federal Domestic Assistance No. 97.022, “Flood Insurance.”)

James A. Walke,
Acting Deputy Associate Administrator for Mitigation, Department of Homeland Security, Federal Emergency Management Agency.

[FR Doc. 2012-31651 Filed 1-3-13; 8:45 am]

BILLING CODE 9110-12-P